DEPARTMENT OF HEALTH AND HUMAN SERVICES

Centers for Medicare & Medicaid Services

[CMS-5052-N]

Medicare Program; Solicitation for Proposals for the Medicare Graduate Nurse Education Demonstration Program

AGENCY: Centers for Medicare & Medicaid Services (CMS).

ACTION: Notice.

SUMMARY: This notice informs interested parties of an opportunity to apply to participate in the Medicare Graduate Nurse Education (GNE) Demonstration. The primary goal of the GNE Demonstration is to increase the number of advanced practice registered nurses (APRNs) in order to meet the health care needs of the growing Medicare population.

DATES: Proposals will be considered timely if they are received on or before 5 p.m., Eastern Standard Time (E.S.T.) on May 21, 2012.

ADDRESSES: Proposals should be mailed to the following address: Centers for Medicare & Medicaid Services, Center for Medicare & Medicaid Innovation, Attention: Alexandre Laberge, Mail Stop: WB-06-05, 7500 Security Boulevard, Baltimore, Maryland 21244-1850.

FOR FURTHER INFORMATION CONTACT: Alexandre Laberge (410) 786-8625 or by email at GNE@cms.hhs.gov.

SUPPLEMENTARY INFORMATION:

General Information: Please refer to file code (CMS-5052-N) on the application. Proposals (an unbound original and 10 electronic copies on CD-ROM) must be typed for clarity and should not exceed 50 double-spaced pages, exclusive of cover letter, the executive summary, resumes, forms, and no more than 15 pages supporting documentation. Because of staffing and resource limitations, we cannot accept proposals by facsimile (Fax) transmission. Applicants may, but are not required to, submit a total of 10 copies to assure that each reviewer receive a proposal in the manner intended by the applicant (for example, collated, tabulated color copies). Hard copies and electronic copies must be identical.

Eligible Organizations: As set forth in section 5509 of the Affordable Care Act (ACA) (Pub. L. 111-148, as amended by Pub. L. 111-152), an “eligible hospital” may apply to perform the responsibilities specified. Section 5509(e)(5) of the ACA defines an “eligible hospital” to mean a hospital (as defined in section 1861(e) of the Social Security Act (the Act) (42 U.S.C. 1395x)) or a critical access hospital (as defined in section 1861(mm)(1) of the Act) that has a written agreement in place with—(A) 1 or more applicable schools of nursing; and (B) 2 or more applicable non-hospital community-based care settings. The written agreement must meet specific requirements set forth in section 5509 of the ACA including—(1) the obligations of the eligible partners with respect to the provision of qualified training; and (2) the obligation of the eligible hospital to reimburse such eligible partners applicable (in a timely manner) for the costs of such qualified training attributable to partner. The demonstration will include up to five eligible hospitals.

I. Provisions of This Notice

We are seeking eligible hospital applicants, which includes critical access hospitals, to partner with one or more applicable schools of nursing (SONs) and two or more applicable nonhospital community-based care settings (CCSs) to provide advanced practice registered nurse (APRN) students with qualified training. See section 5509(e) of the ACA for the definitions of the terms used in the preceding sentence. At least half of the clinical training must be provided in non-hospital CCSs which may include federally qualified health centers (FQHCs), rural health clinics (RHCs), and other nonhospital settings as determined appropriate by the Secretary. However, the Secretary may waive the requirement under section 5509(e)(7)(A)(ii) of the ACA with respect to eligible hospitals located in rural or medically underserved areas.

In general terms, the demonstration provides a source of Medicare funding for the reasonable costs for clinical training attributable to the incremental increase in the number of APRN students enrolled in participating SONs during the demonstration relative to an established baseline. Section 5509 of the ACA sets forth limitations on the reasonable costs reimbursable under the demonstration. We will make interim payments to selected hospitals with a cost settlement process using Medicare reasonable cost principles. Participating eligible hospitals must establish written agreements with one or more applicable SONs and two or more applicable non-hospital CCSs that define the obligations of each partner with respect to the provision of qualified training and the corresponding eligible hospital's obligation to reimburse eligible partners applicable (in a timely manner) for the costs of such qualified training attributable to the partner and the mechanism for partner reimbursement. As outlined in the GNE Solicitation, applicant hospitals may partner with other hospitals in the demonstration and we will support an expanded configuration of hospital relationships under certain circumstances.

The GNE Demonstration will run for 4 years. Applicants must identify how they propose to significantly increase the APRN student enrollment and graduation rates for clinical nurse specialist, nurse practitioner, certified registered nurse anesthetist, and certified nurse midwife specialty programs. The proposal must present evidence that the applicant hospital and partner organizations are not only capable of successfully recruiting students but also providing relevant clinical training programs responsive to our changing health care system due to the growing number of insured by 2014. Applicants will be required to provide a detailed budget and narrative describing the rationale for the proposed GNE payment rate and why this would be an efficient investment for CMS.

A competitive process will be used to select eligible organizations. We will accept proposal applications in the standard format outlined in the GNE solicitation in order to be considered for review by an internal technical panel. Applications that are not received in this format will not be considered for review.

For more specific details regarding the GNE demonstration, please refer to the informational materials on our Web site at http://www.cms.hhs.gov/DemoProjectsEvalRpts/downloads/.

II. Information Collection Requirements

In accordance with section 5509(a)(4) of the ACA, this information collection requirement is not subject to the Paperwork Reduction Act of 1995. Consequently, it need not be reviewed by the Office of Management and Budget under the authority of the Paperwork Reduction Act of 1995 (44 U.S.C. Chapter 35).

Authority: Section 5509 of the ACA (Pub. L. 111-148, as amended by Pub. L. 111-152)

(Catalog of Federal Domestic Assistance Program No. 93.773, Medicare—Hospital Insurance; and Program No. 93.774, Medicare—Supplementary Medical Insurance Program)

Dated: January 19, 2012.
Marilyn Tavenner,
Acting Administrator, Centers for Medicare & Medicaid Services.

[FR Doc. 2012-6940 Filed 3-21-12; 8:45 am]

BILLING CODE 4120-01-P